DEPARTMENT OF HEALTH AND HUMAN SERVICES

Centers for Medicare & Medicaid Services

42 CFR Parts 409, 410, 411, 413, 414, 415, 418, 423, 424, 482, 484, 485, and 491

[CMS-1385-CN]

RIN 0938-AO65

Medicare Program; Proposed Revisions to Payment Policies Under the Physician Fee Schedule, and Other Part B Payment Policies for CY 2008; Proposed Revisions to the Payment Policies of Ambulance Services Under the Ambulance Fee Schedule for CY 2008; and the Proposed Elimination of the E-Prescribing Exemption for Computer-Generated Facsimile Transmissions; Corrections

AGENCY: Centers for Medicare & Medicaid Services (CMS), HHS.

ACTION: Proposed rule; correction notice.

SUMMARY: This document corrects several technical and typographical errors in the proposed rule that was issued on July 2, 2007 and appeared in the July 12, 2007 Federal Register (72 FR 38122). The proposed rule addressed Medicare Part B payment policy, including the physician fee schedule (PFS) that is applicable for calendar year (CY) 2008. The proposed rule also addressed refinements to relative value units (RVUs) and physician self-referral issues. Specifically, the errors pertain to the following provisions: Drug compendia, telehealth services, competitive acquisition program (CAP), end-stage renal disease (ESRD), physician self-referral issues, therapy standards and requirements, Physician Quality Reporting Initiative, and the payment impact on physician fee schedule services.

FOR FURTHER INFORMATION CONTACT: Diane Milstead (410) 786-3355.

SUPPLEMENTARY INFORMATION:

I. Background

In FR Doc. 07-3274 (72 FR 38122), the proposed rule entitled “Medicare Program; Proposed Revisions to Payment Policies Under the Physician Fee Schedule, and Other Part B Payment Policies for CY 2008; Proposed Revisions to the Payment Policies of Ambulance Services Under the Ambulance Fee Schedule for CY 2008; and the Proposed Elimination of the E-Prescribing Exemption for Computer-Generated Facsimile Transmissions” (hereinafter referred to as the CY 2008 PFS proposed rule), there were technical and typographical errors that are identified and corrected in this correction notice.

II. Correction of Errors

In FR Doc. 72-3274 of July 12, 2007 (72 FR 38211), make the following corrections:

A. Corrections to the Preamble

1. On page 38122, 3rd column, 14th full paragraph, line 1 the phrase “Karen Rinker (410) 786-0189” is corrected to read “Karen Rinker (410) 786-0189 or Kate Tillman (410) 786-9252”.

2. On page 38123, 1st column, 1st full paragraph, line 1, the phrase “Lisa Ohrin (410) 786-4565” is corrected to read “Lisa Ohrin (410) 786-4565 or Joanne Sinsheimer (410) 786-4620”.

3. On page 38125, 1st column, after line 72, the phrase “SLPs Speech-language pathologists” is added.

4. On page 38145, 1st column, 1st full paragraph, lines 21 and 22, the phrase “96118 through and 99620” is corrected to read “96118 through 96120”.

5. On page 38154, 3rd column, 1st paragraph, line 39, “suppler” is corrected to read “supplier”.

6. On page 38155, 1st column, 1st full paragraph, line 24, “physician's office have also been used to”, is corrected to read “physician's office to”.

7. On page 38158, 3rd column, 2nd full paragraph, line 5, “participating CAP” is corrected to read “participating CAP”.

8. On page 38159, 3rd column, 1st full paragraph, line 6, the phrase “using prefilling” is corrected to read “using prefilled”.

9. On page 38160, 1st column, 1st full paragraph, line 14, the phrase “pharmacy laws” is corrected to read “pharmacy laws)”.

10. On page 38164, 1st column, 1st full paragraph, line 14, the phrase “REPORT TO CONGRESS” is corrected to read “Report to Congress”.

11. On page 38179, 3rd column, line 3, the phrase “The physician or other supplier's” is corrected to read “The physician's or other supplier's”.

12. On page 38180,

a. Second column, lines 54 and 55, the phrase “or through some other means” is corrected to read “or through some other means)”.

b. Third column, 2nd full paragraph, line 10, “an anti-markup” is corrected to read “an anti-markup provision”.

c. Third column, 3rd full paragraph, lines 4 and 5, “a DHS” is corrected to read “a designated health service”.

13. On page 38181, 3rd column, 1st full paragraph, lines 5 and 6, “a DHS” is corrected to read “a designated health service”.

14. On page 38182,

a. Second column, last paragraph, lines 2 and 3, the phrase “the prohibition of physician referrals” is corrected to read “the prohibition on physician referrals”.

b. Third column, 1st full paragraph, lines 4 and 5, the phrase “such as a magnetic resonance imaging (MRI) machine)” is corrected to read “such as an MRI machine)”.

15. On page 38183,

a. First column, 1st full paragraph,

(1) Lines 6 and 7, the phrase “by a physician lessor to the entity.” is corrected to read “by a physician lessor to the entity lessee.”

(2) Line 17, “for patient referred” is corrected to read “for patients referred”.

b. Second column, 1st full paragraph,

(1) Lines 3 and 4, the phrase “where the parties have returned,” is corrected to read “where a party has returned,”.

(2) Lines 10 and 12, the phrase “we might allow the parties to terminate the period of disqualification” is corrected to read “the period of disallowance may terminate”.

16. On page 38184,

a. First column, 1st full paragraph, line 26 the phrase “§ 411.354(d)(1) read,” is corrected to read “§ 411.354(d)(1) stated:”.

b. Third column,

(1) First full paragraph,

(a) Lines 16 and 17, the phrase “that we finalize” is corrected to read “that we may finalize”.

(b) Line 19, the phrase “standing on the shoes” is corrected to read “standing in the shoes”.

(2) Second full paragraph, line 9, the phrase “or a personal services” is corrected to read “or a personal service”.

17. On page 38184, 3rd column, 2nd full paragraph, line 14 through page 38185, 1st column, 1st partial paragraph, line 7, the sentence “One commenter stated that we should exercise our discretion in pursuing minor violations and the failure to meet the procedural requirements of an exception (such as obtaining all required signatures prior to commencement of the agreement for personal services) and technical violations.” is corrected to read “One commenter stated that we should exercise our discretion in pursuing minor violations and any violations involving a failure to meet the procedural or form requirements of an exception (such as obtaining all required signatures prior to commencement of the agreement for personal services).”

18. On page 38185,

a. First column, 1st full paragraph,

(1) Lines 9 through 11, the phrase “to address only inadvertent, violations in which an agreement fails to satisfy the procedural of “form” requirements of an exception of the statute or regulations” is corrected to read “to address only inadvertent violations in which an agreement fails to satisfy the procedural or “form” requirements of an exception in the statute or regulations”.

(2) Line 18, the phrase “or set in advance” is corrected to read “or set in advance, etc.”

b. Second column,

(1) First partial paragraph, line 5, the phrase “under the False Claims Act;” is corrected to read “under the False Claims Act);”.

(2) First full paragraph,

(a) Line 22, the phrase “exception that meets” is corrected to read “exception meets”.

(b) Lines 23 and 24, the phrase “method of compliance” is corrected to read “method for compliance”.

c. Third column,

(1) First partial paragraph, line 22, the phrase “method of compliance” is corrected to read “method for compliance”.

(2) Second partial paragraph, last line, the phrase “criteria as satisfying” is corrected to read “as satisfying”.

19. On page 38186,

a. First column, 1st partial paragraph, lines 16 and 17, the phrase “satisfy a procedural of “form” requirement” is corrected to read “satisfy a procedural or “form” requirement”.

b. Second column,

(1) First full paragraph,

(a) Line 6, the phrase “prohibits the entity” is corrected to read “prohibit the entity”.

(b) Lines 28 through 32, “The Internet-Only Manual (IOM) manual 100-01, Medicare General Information, Eligibility and Entitlement Manual, Pub. 100-01, at Chapter 5, section 10.3” is corrected to read “The CMS Internet-Only Manual (IOM), publication 100-01, Medicare General Information, Eligibility and Entitlement Manual, Chapter 5, section 10.3”.

(2) Second full paragraph, lines 12 and 13, the phrase “the physician can potentially recognize” is corrected to read “the physician can potentially realize”.

20. On page 38187,

a. Second column, 3rd full paragraph, lines 21 and 22, the phrase “transport; and (2) another person” is corrected to read “transport; (2) another person”.

b. Third column, 2nd full paragraph, line 8, the phrase “under § 424.36(b)(1) through (5)” is corrected to read “under § 424.36(b)(1) through (5))”.

21. On page 38191,

a. Second column, last paragraph, last line, the phrase “pathologists at § 484.4” is corrected to read “pathologists (SLPs) at § 484.4”.

b. Third column, 1st paragraph, lines 7 and 8 the phrase “speech-language pathologists (SLPs)” is corrected to read “SLPs”.

22. On page 38200, in Table 16.—2007 PQRI Measures, after line 9, the table is corrected by adding the following sentence “Age-Related Macular Degeneration—Dilated Macular Examination.”

23. On page 38212, 3rd column, 4th full paragraph, the second bullet that begins with the phrase “Allowed Charges:” and ends with the phrase “allowed charges for the specialty” is deleted.

24. On page 38217, 3rd column, 1st partial paragraph, lines 1 and 2, the phrase “current 2006 payments and proposed 2007 payments.” is corrected to read “current 2007 payments and proposed 2008 payments.”

B. Correction to the Regulations Text

PART 409—[CORRECTED]

1. On page 38221, 1st column, last paragraph, and the second column, 1st partial paragraph, § 409.17 (a)(1)(ii) is corrected to read as follows:

§ 409.17 Physical therapy, occupational therapy, and speech-language pathology services.

(a) * * *

(1) * * *

(ii) Physical therapy, occupational therapy, or speech-language pathology services may be furnished by qualified physical therapists, physical therapist assistants, occupational therapists, occupational therapy assistants, or speech-language pathologists who have been licensed, certified, registered or otherwise regulated as physical therapists, physical therapist assistants, occupational therapists, occupational therapy assistants, or speech-language pathologists by the State in which practicing before January 1, 2008 and continue to furnish Medicare services at least part time without an interruption in furnishing services of more than 2 years.

* * * * *

PART 410—[CORRECTED]

2. On page 38222, in the 3rd column,

a. Lines 26 through 28, the amendatory statement for § 410.61 “Section 410.61 is amended by revising paragraph (e)(1) to read as follows:” is corrected to read “Section 410.61 is amended by revising paragraph (e) to read as follows:”.

b. Lines 32 through 38, the regulatory language for § 410.61(e) is corrected to read as follows:

§ 410.61 Plan of treatment requirements for outpatient rehabilitation services.

* * * * *

(e) Review of the plan. The physician, nurse practitioner, clinical nurse specialist or physician's assistant reviews the plan as often as the individual's condition requires, but at least at every certification and recertification.

* * * * *

(Catalog of Federal Domestic Assistance Program No. 93.774, Medicare—Supplementary Medical Insurance Program)

Dated: July 31, 2007.
Ann C. Agnew,
Executive Secretary to the Department.

[FR Doc. E7-15182 Filed 8-3-07; 8:45 am]

BILLING CODE 4120-01-P